NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at title 45 part 670 of the Code of Federal Regulations. This is the required notice of permit applications received.

DATES: Interested parties are invited to submit written data, comments, or views with respect to this permit application by August 27, 2010. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows: Permit Application No. 2011-008.

1. Applicant Sam Feola, Director, Raytheon Polar Services Company, 7400 South Tucson Way, Centennial, CO 80112.

Activity for Which Permit Is Requested: Introduce into Antarctica. The applicant plans to import and use commercially available, freeze-dried marine bacterium, Vibrio fisher, NRRL B-11177, for experimental use at the McMurdo Station Crary Science and Engineering Center (CSEC). This bacterium is used as one of the reagents for the Microtox toxicity analyzer, Azur Environmental model 500, 0073486. The bacterium are used with a reconstituting reagent to determine toxicity levels. All laboratory plastic-ware (tubes, tips, etc) used with the bacteria will be autoclaved to destroy any residual bacteria.

Location: Crary Science and Engineering Center, McMurdo Station, Antarctica.

Dates: October 1, 2010 to September 30, 2014.

Nadene G. Kennedy,
Permit Officer, Office of Polar Programs.

[FR Doc. 2010-18433 Filed 7-27-10; 8:45 am]

BILLING CODE 7555-01-P